INTERNATIONAL TRADE COMMISSION

[Inv. No. 337-TA-453]

Certain Programmable Logic Devices and Products Containing Same; Notice of Commission Decision Not To Review an Initial Determination Terminating the Investigation on the Basis of a Settlement Agreement

AGENCY: U.S. International Trade Commission.

ACTION: Notice.

SUMMARY: Notice is hereby given that the U.S. International Trade Commission has determined not to review the presiding administrative law judge's (“ALJ's”) initial determination (“ID”) terminating the above-captioned investigation in its entirety based on a settlement agreement.

FOR FURTHER INFORMATION CONTACT: Michael Liberman, Esq., Office of the General Counsel, U.S. International Trade Commission, 500 E Street, SW., Washington, DC 20436, telephone (202) 205-3115. Copies of the public versions of the ID and all other nonconfidential documents in the record of this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record for this investigation may be viewed on the Commission's electronic docket (EDIS-ON-LINE) at http://dockets.usitc.gov/eol/public.

SUPPLEMENTARY INFORMATION: The Commission instituted this investigation on March 14, 2001, based on a complaint filed by Altera Corporation (“Altera”) against Xilinx, Inc. (“Xilinx”). The complaint alleged violations of section 337 of the Tariff Act of 1930 in the importation into the United States, sale for importation, and/or sale within the United States after importation of certain integrated programmable logic devices or products containing same by reason of infringement of claims 1, 8-13, 31, 33 or 34 of U.S. Letters Patent 5,970,255, or claims 11 or 12 of U.S. Letters Patent 5,260,610. 66 FR 14937 (2001).

On July 31, 2001, Altera and Xilinx filed their joint motion to terminate the investigation on the basis of a settlement agreement. On August 2, 2001, the Commission investigative attorney filed a response supporting the joint motion. On October 17, 2001, the presiding ALJ issued an ID (Order No. 8) granting the joint motion. No party petitioned for review of the ID.

This action is taken under the authority of section 337 of the Tariff Act of 1930 (19 U.S.C. § 1337) and section 210.42 of the Commission's Rules of Practice and Procedure (19 C.F.R. § 210.42).

Issued: November 7, 2001.
By order of the Commission.
Donna R. Koehnke,
Secretary.

[FR Doc. 01-28339 Filed 11-9-01; 8:45 am]

BILLING CODE 7020-02-P